FEDERAL TRADE COMMISSION

Agency Information Collection Activities; Submission for OMB Review; Comment Request

AGENCY: Federal Trade Commission.

ACTION: Notice and request for comment.

SUMMARY: In compliance with the Paperwork Reduction Act (PRA) of 1995, the FTC is seeking public comments on its request to OMB for a three-year extension of the current PRA clearance for the information collection requirements contained in four product labeling rules enforced by the Commission. Those clearances expire on March 31, 2012.

DATES: Comments must be received by March 26, 2012.

ADDRESSES: Interested parties may file a comment online or on paper, by following the instructions in the Request for Comment part of the SUPPLEMENTARY INFORMATION section below.

FOR FURTHER INFORMATION CONTACT: Requests for additional information or copies of the proposed information requirements should be addressed to Robert M. Frisby, 202-326-2098, or Lemuel Dowdy, 202-326-2981, Attorneys, Division of Enforcement, Bureau of Consumer Protection, 600 Pennsylvania Ave. NW., Washington, DC 20580.

SUPPLEMENTARY INFORMATION: Title: Rules and regulations under Fur Products Labeling Act (“Fur Rules”), 16 CFR part 301.

OMB Control Number: 3084-0099.

Type of Review: Extension of a currently approved collection.

Abstract: The Fur Products Labeling Act (“Fur Act”) ¹ prohibits the misbranding and false advertising of fur products. The Fur Rules establish disclosure requirements that assist consumers in making informed purchasing decisions, and recordkeeping requirements that assist the Commission in enforcing the Rules. The Rules also provide a procedure for exemption from certain disclosure provisions under the Fur Act.

¹ 15 U.S.C. 69 et seq.

On December 12, 2011, the Commission sought comment on the information collection requirements in the Fur Rules. 76 FR 77230. No comments were received. As required by OMB regulations, 5 CFR Part 1320, the FTC is providing this second opportunity for public comment.

Likely Respondents: Manufacturers, importers, processors and marketers of fur products.

Frequency of Response: Third party disclosure; recordkeeping requirement.

Estimated Annual Hours Burden: 168,098 hours (51,870 hours for recordkeeping + 116,228 hours for disclosure).

Recordkeeping: 51,870 hours [1,230 retailers incur an average recordkeeping burden of about 13 hours per year (15,990 hours total); 90 manufacturers incur an average recordkeeping burden of about 52 hours per year (4,680 hours total); and 1,200 importers of furs and fur products incur an average recordkeeping burden of 26 hours per year (31,200 hours total)].

Disclosure: 116,228 hours [(89,021 hours for labeling + 23,517 hours for invoices + 3,690 hours for advertising).].

Estimated annual cost burden: $2,807,000, rounded to the nearest thousand (solely relating to labor costs).

Title: Rules and regulations under the Wool Products Labeling Act of 1939 (“Wool Rules”), 16 CFR part 300.

OMB Control Number: 3084-0100.

Type of Review: Extension of a currently approved collection.

Abstract: The Wool Products Labeling Act of 1939 (“Wool Act”) ² prohibits the misbranding of wool products. The Wool Rules establish disclosure requirements that assist consumers in making informed purchasing decisions and recordkeeping requirements that assist the Commission in enforcing the Rules.

² 15 U.S.C. 68 et seq.

On December 12, 2011, the Commission sought comment on the information collection requirements in the Wool Rules. 76 FR 77230. No comments were received. As required by OMB regulations, 5 CFR Part 1320, the FTC is providing this second opportunity for public comment.

Likely Respondents: Manufacturers, importers, processors and marketers of wool. products.

Frequency of Response: Third party disclosure; recordkeeping requirement.

Estimated annual hours burden: 440,000 hours (80,000 recordkeeping hours + 360,000 disclosure hours).

Recordkeeping: 80,000 hours [4,000 wool firms incur an average 20 hours per firm (80,000 hours).

Disclosure: 360,000 hours [120,000 hours for determining label content + 40,000 hours to draft and order labels + 200,000 hours to attach labels].

Estimated annual cost burden: $5,920,000 (solely relating to labor costs).

Title: Rules and regulations under the Textile Fiber Products Identification Act (“Textile Rules”), 16 CFR part 303.

OMB Control Number: 3084-0101.

Type of Review: Extension of a currently approved collection.

Abstract: The Textile Fiber Products Identification Act (“Textile Act”) ³ prohibits the misbranding and false advertising of textile fiber products. The Textile Rules establish disclosure requirements that assist consumers in making informed purchasing decisions, and recordkeeping requirements that assist the Commission in enforcing the Rules. The Rules also contain a petition procedure for requesting the establishment of generic names for textile fibers.

³ 15 U.S.C. 70 et seq.

On December 12, 2011, the Commission sought comment on the information collection requirements in the Textile Rules. 76 FR 77230. No comments were received. As required by OMB regulations, 5 CFR part 1320, the FTC is providing this second opportunity for public comment.

Likely Respondents: Manufacturers, importers, processors and marketers of textile fiber products.

Frequency of Response: Third party disclosure; recordkeeping requirement.

Estimated annual hours burden: 7,528,142 hours (506,025 recordkeeping hours + 7,022,117 disclosure hours).

Recordkeeping: 506,025 hours [Approximately 20,241 textile firms incur average burden of 25 hours per firm (506,025 hours)].

Disclosure: 7,022,117 hours [444,360 hours to determine label content + 111,090 hours to draft and order labels + 6,466,667 hours to attach labels].

Estimated annual cost burden: $53,662,000, rounded to the nearest thousand (solely relating to labor costs).

Title: The Care Labeling of Textile Wearing Apparel and Certain Piece Goods As Amended (“Care Labeling Rule”), 16 CFR 423.

OMB Control Number: 3084-0103.

Type of Review: Extension of a currently approved collection.

Abstract: The Care Labeling Rule requires manufacturers and importers to attach a permanent care label to all covered textile clothing in order to assist consumers in making purchase decisions and in determining what method to use to clean their apparel. Also, manufacturers and importers of piece goods used to make textile clothing must provide the same care information on the end of each bolt or roll of fabric.

On December 12, 2011, the Commission sought comment on the information collection requirements in the Care Labeling Rule. 76 FR 77230. No comments were received. As required by OMB regulations, 5 CFR part 1320, the FTC is providing this second opportunity for public comment.

Estimated annual hours burden: 6,666,477 hours (solely relating to disclosure ⁴) (955,374 hours to determine care instructions + 44,436 hours to draft and order labels + 5,666,667 hours to attach labels).

⁴ The Care Labeling Rule imposes no specific recordkeeping requirements. Although the Rule requires manufacturers and importers to have reliable evidence to support the recommended care instructions, companies may provide as support current technical literature or rely on past experience.

Likely Respondents: Manufacturers or importers of textile apparel.

Frequency of Response: Third party disclosure.

Estimated Annual Cost Burden: $51,107,000, rounded to the nearest thousand (solely related to labor costs).

Request for Comment:

You can file a comment online or on paper. For the Commission to consider your comment, we must receive it on or before March 26, 2012. Write “Apparel Rules: FTC File No. P074201” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[t]rade secret or any commercial or financial information which is obtained from any person and which is privileged or confidential * * *,” as provided in Section 6(f) of the FTC Act, 15 U.S.C. 46(f), and FTC Rule 4.10(a)(2), 16 CFR 4.10(a)(2). In particular, don't include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c). Your comment will be kept confidential only if the FTC General Counsel, in his or her sole discretion, grants your request in accordance with the law and the public interest.

Postal mail addressed to the Commission is subject to delay due to heightened security screening. As a result, we encourage you to submit your comments online, or to send them to the Commission by courier or overnight service. To make sure that the Commission considers your online comment, you must file it at https://ftcpublic.commentworks.com/ftc/apparelrulespra2, by following the instructions on the web based form. If this Notice appears at http://www.regulations.gov, you also may file a comment through that Web site.

If you file your comment on paper, write “Apparel Rules: FTC File No. P074201” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice. The FTC Act and other laws that the Commission administers permit the collection of public comments to consider and use in this proceeding as appropriate. The Commission will consider all timely and responsive public comments that it receives on or before March 26, 2012. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street, NW., Washington, DC 20503. Comments sent to OMB by U.S. postal mail, however, are subject to delays due to heightened security precautions. Thus, comments instead should be sent by facsimile to (202) 395-5167.

Willard K. Tom,
General Counsel.

[FR Doc. 2012-4141 Filed 2-22-12; 8:45 am]

BILLING CODE 6750-01-P